DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that were placed on OFAC's Specially Designated Nationals and Blocked Persons List based on OFAC's determination that one or more applicable legal criteria were satisfied. All property and interests in property subject to U.S. jurisdiction of these persons were blocked, and U.S. persons were generally prohibited from engaging in transactions with them. Subsequently, on October 23, 2019, pursuant to a Presidential directive, the names published were removed from OFAC's Specially Designated Nationals and Blocked Persons List and were unblocked.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On October 14, 2019, OFAC determined that the property and interests in property subject to U.S. jurisdiction of the following persons were blocked under the relevant sanctions authorities listed below. On October 23, 2019, pursuant to a Presidential directive, OFAC removed the following from the Specially Designated Nationals and Blocked Persons List. Therefore, the property and interests in property subject to U.S. jurisdiction of the following persons are unblocked and these persons are no longer subject to the blocking provisions of Section 1(a) of E.O. 13894.

Individuals

1. AKAR, Hulisi, Turkey; DOB 1952; POB Kayseri, Turkey; Gender Male (individual) [SYRIA-EO13894].

Designated pursuant to section 1(a)(i)(B) of Executive Order 13894, for being a current or former official of the Government of Turkey.

2. DONMEZ, Fatih, Turkey; DOB 1965; POB Bilecik, Turkey; Gender Male (individual) [SYRIA-EO13894].

Designated pursuant to section 1(a)(i)(B) of Executive Order 13894, for being a current or former official of the Government of Turkey.

3. SOYLU, Suleyman, Turkey; DOB 21 Nov 1969; POB Istanbul, Turkey; Gender Male (individual) [SYRIA-EO13894].

Designated pursuant to section 1(a)(i)(B) of Executive Order 13894, for being a current or former official of the Government of Turkey.

Entities

1. REPUBLIC OF TURKEY MINISTRY OF NATIONAL DEFENCE, Ankara, Turkey [SYRIA-EO13894].

Designated pursuant to section 1(a)(i)(C) of Executive Order 13894, for being a subdivision, agency, or instrumentality of the Government of Turkey.

2. REPUBLIC OF TURKEY MINISTRY OF NATIONAL DEFENCE, Ankara, Turkey [SYRIA-EO13894].

REPUBLIC OF TURKEY MINISTRY OF ENERGY AND NATURAL RESOURCES, Ankara, Turkey [SYRIA-EO13894].

Dated: February 5, 2019.
Andrea M. Gacki,
Director, Office of Foreign Assets Control.

[FR Doc. 2020-02575 Filed 2-7-20; 8:45 am]

BILLING CODE 4810-AL-P